DEPARTMENT OF COMMERCE

National Oceanic and Atmospheric Administration

RIN: 0648-XT94

Mid-Atlantic Fishery Management Council; Public Meetings

AGENCY: National Marine Fisheries Service (NMFS), National Oceanic and

Atmospheric Administration (NOAA), Commerce.

ACTION: Notice of public meetings.

SUMMARY: The Mid-Atlantic Fishery Management Council (Council) and its Executive Committee will hold public meetings.

DATES: The meetings will be held Tuesday, February 9, 2010 through Thursday, February 11, 2010. See SUPPLEMENTARY INFORMATION for specific dates and times.

ADDRESSES: The meetings will be held at the Hyatt Regency Chesapeake Bay Hotel, 100 Heron Blvd, Cambridge, MD 21613; telephone: (410) 901-1234

Council address: Mid-Atlantic Fishery Management Council, 300 S. New St., Room 2115, Dover, DE 19904; telephone: (302) 674-2331.

FOR FURTHER INFORMATION CONTACT: Daniel T. Furlong, Executive Director, Mid-Atlantic Fishery Management Council; telephone: (302) 674-2331 ext. 19.

SUPPLEMENTARY INFORMATION:

Tuesday, February 9, 2010

9 a.m. until 10 a.m. -- The Executive Committee will meet.

10 a.m. -- The Council will convene.

10 a.m. until 11 a.m. -- The Council will receive the Standardized Bycatch Reporting Methodology (SBRM) Annual Report.

11 a.m. until 12 p.m. -- The Council will hear a presentation on the peer review of the Albatross/Bigelow vessel calibration data and analyses including summary results and recommendations.

1 p.m. until 5:30 p.m. -- There will be a Council Workshop on the Research Set-Aside (RSA) Program.

7 p.m. -- A Public Hearing on Amendment 11 to the Atlantic Mackerel, Squid, and Butterfish Fishery Management Plan (FMP) will convene.

Wednesday, February 10, 2010

8 a.m. until 8:45 a.m. -- The Council will convene for the 49th Northeast Regional Stock Assessment Workshop Report.

8:45 a.m. until 9:45 a.m. -- The Council will hear a presentation on the draft-interim NOAA Catch Share Policy.

9:45 a.m. until 12 p.m. -- The Ecosystems and Ocean Planning Committee will meet as a Committee of the Whole.

1 p.m. until 5:30 p.m. -- The Council will visit a Clam Processing Plant in Milford, DE.

Thursday, February 11, 2010

8 a.m. -- The Council will convene.

8 a.m. until 9 a.m. -- A Public Hearing on Amendment 5 to the Monkfish FMP will be held.

9 a.m. until 10:30 a.m. -- There will be a Council discussion of Omnibus Annual Catch Limits and Accountability Measures (ACL/AM).

10:30 a.m. until 11:30 p.m. -- There will be a Marine Recreational Information Program (MRIP) Update.

11:30 a.m. until 12 p.m. -- The Council will hear the Scientific and Statistical Committee (SSC) Report.

1 p.m. until 2 p.m. -- The Council will discuss the SSC's Amended 2010 Acceptable Biological Catch (ABC) recommendations.

2 p.m. until 4 p.m. -- The Council will hold its regular Business Session to approve the December minutes, receive Organizational Reports, Executive Director's Report, status of the FMP's, Committee reports, Liaison Report, and conduct any continuing and/or new business.

Agenda items by day for the Council's Committees and the Council itself are:

On Tuesday, February 9 - The Executive Committee will meet to discuss the Council Coordination Committee Meeting Report, the Catch Shares Workshop, the Executive Director search, and any other business. The Council will receive the (SBRM) Annual Report. The Council will then receive a presentation on peer review of the Albatross/Bigelow vessel calibration data and analyses including summary results and recommendations. A workshop on the RSA program will be held to briefly review history of the Mid-Atlantic RSA grogram, review RSA program listing strengths and challenges, briefly review RSA program administrative processes, grants processes, and other regulatory requirements pertinent to RSA programs and discuss improvements already made, review RSA program economics, costs, benefits, business practices, and consider alternative business models, explore proposed measures to improve the RSA program and discuss what agency or entity is primarily responsible for each proposed action, and revisit the RSA program's objectives as originally perceived by the Council and determine if they are still relevant or need updating. A Public Hearing on Amendment 11 to the Atlantic Mackerel, Squid, and Butterfish FMP will be held in the evening.

On Wednesday, February 10 - the Council will convene to receive the 49th Northeast Regional Stock Assessment Workshop Report on the Butterfish and Surfclam Assessments. The Council will receive a presentation on the draft-interim NOAA Catch Share Policy by Monica Medina [Senior Advisor to Dr. Lubchenco and Catch Share Task Force Chairperson]. The Ecosystems and Ocean Planning Committee will meet as a Committee of the Whole to receive a presentation by Sam Rauch (NOAA) on Ocean Policy Task Force and Coastal and Marine Spatial Planning (CMSP), a Marine Spatial Planning (MSP) presentation by Jay Odell (Nature Conservancy), develop comments on CMSP Framework, and discuss two potential lease areas for renewable and non-renewable energy resources off the VA coast. The Council will then tour a Clam Processing Plant in Milford, DE on Wednesday afternoon.

On Thursday, February 11 - the Council will convene for a Public Hearing on Amendment 5 to the Monkfish FMP and to discuss proposed changes to and impacts on the Monkfish fishery. The Council will discuss its risk policy and the ABC Control Rule Framework being developed in the Omnibus ACL/AM Amendment. The Council will receive an update on MRIP and the National Registry program. The Council will receive a SSC Report which will discuss the SSC findings on reconsideration of the 2010 ABC recommendation for black sea bass. The Council will then consider the SSC's Amended 2010 ABC recommendation and develop comments to the Regional Administrator on black sea bass management measures and uncertainty. The Council will hold its regular Business Session to approve the December minutes, receive Organizational Reports, the Executive Director's Report, Status of the FMP's, Committee Reports, the Liaison Report, and conduct any continuing and/or new business.

Although non-emergency issues not contained in this agenda may come before this group for discussion, in accordance with the Magnuson-Stevens Fishery Conservation and Management Act (Magnuson-Stevens Act), those issues may not be the subject of formal action during these meetings. Actions will be restricted to those issues specifically identified in this notice and any issues arising after publication of this notice that require emergency action under Section 305(c) of the Magnuson-Stevens Act, provided the public has been notified of the Council's intent to take final action to address the emergency.

Special Accommodations

These meetings are physically accessible to people with disabilities. Requests for sign language interpretation or other auxiliary aid should be directed to M. Jan Bryan, (302) 674-2331 ext 18, at least 5 days prior to the meeting date.

Dated: January 20, 2010.
Tracey L. Thompson,
Acting Director, Office of Sustainable Fisheries, National Marine Fisheries Service.

[FR Doc. 2010-1305 Filed 1-22-10; 8:45 am]

BILLING CODE 3510-22-S